DEPARTMENT OF ENERGY

Federal Energy Regulatory Commission

Combined Notice of Filings #2

Take notice that the Commission received the following electric corporate filings:

Docket Numbers: EC16-15-000.

Applicants: Michigan Power Limited Partnership.

Description: Application for Authorization Pursuant to Section 203 of the Federal Power Act of Michigan Power Limited Partnership.

Filed Date: 10/19/15.

Accession Number: 20151019-5314.

Comments Due: 5 p.m. ET 11/9/15.

Take notice that the Commission received the following electric rate filings:

Docket Numbers: ER10-2719-023; ER10-2718-024; ER14-1317-005; ER11-2041-009; ER11-2042-009; ER10-3193-008; ER10-2964-010; ER10-2924-008; ER10-2480-007; ER10-2959-008; ER10-2961-008; ER10-2934-007; ER12-281-009; ER10-3099-015; ER13-821-009; ER10-2950-007; ER14-2500-003; ER14-2498-003; ER10-2615-009; ER10-2538-005; ER11-2335-010.

Applicants: East Coast Power Linden Holding, L.L.C., Cogen Technologies Linden Venture, L.P., Sunshine Gas Producers, LLC, Innovative Energy Systems, LLC, Seneca Energy II, LLC, Brooklyn Navy Yard Cogeneration Partners, L.P., Selkirk Cogen Partners, L.P., Kleen Energy Systems, LLC, Berkshire Power Company, LLC, Chambers Cogeneration, Limited Partnership, Edgecombe Genco, LLC, Logan Generating Company, L.P., Northampton Generating Company, L.P., RC Cape May Holdings, LLC, Scrubgrass Generating Company, L.P., Spruance Genco, LLC, Newark Energy Center, LLC, EIF Newark, LLC, Plum Point Energy Associates, LLC, Plum Point Services Company, LLC, Panoche Energy Center, LLC.

Description: Notice of Non-Material Change in Status of East Coast Power Linden Holding, L.L.C., et al.

Filed Date: 10/19/15.

Accession Number: 20151019-5252.

Comments Due: 5 p.m. ET 11/9/15.

Docket Numbers: ER15-2236-001.

Applicants: Midwest Power Transmission Arkansas, LLC.

Description: Compliance filing: Compliance Filing, Midwest Power Transmission Arkansas, LLC to be effective 9/21/2015.

Filed Date: 10/19/15.

Accession Number: 20151019-5329.

Comments Due: 5 p.m. ET 11/9/15.

Docket Numbers: ER15-2237-001.

Applicants: Kanstar Transmission, LLC.

Description: Compliance filing: Compliance Filing, Kanstar Transmission, LLC to be effective 9/21/2015.

Filed Date: 10/19/15.

Accession Number: 20151019-5330.

Comments Due: 5 p.m. ET 11/9/15.

Docket Numbers: ER16-117-000.

Applicants: Wolverine Power Supply Cooperative, Inc.

Description: § 205(d) Rate Filing: Oden IFA to be effective 10/2/2015.

Filed Date: 10/19/15.

Accession Number: 20151019-5299.

Comments Due: 5 p.m. ET 11/9/15.

Docket Numbers: ER16-118-000.

Applicants: Midcontinent Independent System Operator, Inc., ALLETE, Inc.

Description: § 205(d) Rate Filing: 2015-10-19_Allete Transmission Rate Incentive Filing to be effective 1/1/2016.

Filed Date: 10/19/15.

Accession Number: 20151019-5300.

Comments Due: 5 p.m. ET 11/9/15.

Docket Numbers: ER16-119-000.

Applicants: PJM Interconnection, L.L.C.

Description: § 205(d) Rate Filing: Original Service Agreement No. 4276; Queue #Y3-088/Y3-090/Y3-091 to be effective 9/18/2015.

Filed Date: 10/19/15.

Accession Number: 20151019-5342.

Comments Due: 5 p.m. ET 11/9/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 19, 2015.
Nathaniel J. Davis, Sr.,
Deputy Secretary.

[FR Doc. 2015-26960 Filed 10-22-15; 8:45 am]

BILLING CODE 6717-01-P